NATIONAL SCIENCE FOUNDATION

Advisory Committee for Social, Behavioral & Economic Sciences; Notice of Meeting

In accordance with the Federal Advisory Committee Act (Pub. L. 92-463, as amended), the National Science Foundation (NSF) announces the following meeting:

Name and Committee Code: Advisory Committee (AC) for Social, Behavioral & Economic Sciences (#1171).

Date and Time: May 20, 2022, 11:00 a.m.-5:00 p.m. (ET).

Place: NSF, 2415 Eisenhower Avenue, Alexandria, VA 22314 (Virtual).

Advance Registration is Required: SBE Spring 2022 Advisory Committee Meeting Registration Link.

Type of Meeting: Open.

Contact Person for More Information: John Garneski, Office of the Assistant Director, Directorate for Social, Behavioral and Economic Science; National Science Foundation, 2415 Eisenhower Avenue, Alexandria, VA 22314; Telephone: (703) 292-8700.

Purpose of Meeting: To provide advice, recommendations and counsel on major goals and policies pertaining to Social, Behavioral and Economic Sciences (SBES) programs and activities.

Agenda Items

• Welcome, Introductions, Approval of Previous Advisory Committee (AC) Meeting Summary, Preview of Agenda

• Directorate for Social, Behavioral, and Economic Sciences (SBES) Update

• National Center for Science and Engineering Statistics (NCSES) Organizational Realignment and Updates

• New AC Member Presentation

• Meeting with NSF Leadership

• SBE future year planning and visioning

• Committee on Equal Opportunities in Science and Engineering (CEOSE) Update

• Advisory Committee for Environmental Research and Education (AC-ERE) Update

Dated: April 19, 2022.
Crystal Robinson,
Committee Management Officer.

[FR Doc. 2022-08659 Filed 4-21-22; 8:45 am]

BILLING CODE 7555-01-P